ENVIRONMENTAL PROTECTION AGENCY

40 CFR Part 52

[CA 053-REC; FRL-7122-8]

Corrections to the California State Implementation Plan

AGENCY: Environmental Protection Agency (EPA).

ACTION: Final rule.

SUMMARY: EPA is finalizing the deletion of various local rules from the California State Implementation Plan (SIP) that were incorporated into the SIP in error. These primarily include rules concerning local fees, enforcement authorities, New Source Performance Standards (NSPS) and National Emission Standards for Hazardous Air Pollutants (NESHAP). EPA has determined that the continued presence of these rules in the SIP is potentially confusing and thus harmful to affected sources, local agencies and to EPA. The intended effect of this final action is to delete these rules and make the SIP consistent with the Clean Air Act as amended in 1990 (CAA or the Act). This action also reinserts a paragraph into the compilation of federal regulations that was deleted in error in the Federal Register on November 10, 1982 and redesignates another paragraph published in the Federal Register on June 23, 1982.

EFFECTIVE DATE: This rule is effective on February 19, 2002.

ADDRESSES: You can inspect copies of the administrative record for this action at EPA's Region IX office, 75 Hawthorne Street, San Francisco, CA 94105, during normal business hours. You may also see copies of the rules at the locations listed in SUPPLEMENTARY INFORMATION under “Public Inspection.”

FOR FURTHER INFORMATION CONTACT: Julie A. Rose, Rulemaking Office (AIR-4), Air Division, U.S. Environmental Protection Agency, Region IX, 75 Hawthorne Street, San Francisco, CA 94105, (415) 947-4126. Email: rose.julie@EPA.gov

SUPPLEMENTARY INFORMATION:

Public Inspection

California Air Resources Board, Stationary Source Division, Rule Evaluation Section, 1001 “I” Street, Sacramento, CA 95814.

Amador County Air Pollution Control District, 500 Argonaut Lane, Jackson, CA 95642.

Antelope Valley Air Pollution Control District, 43301 Division Street, Suite 206, Lancaster, CA 93539-4409.

Bay Area Air Quality Management District, 939 Ellis Street, San Francisco, CA 94109.

Butte County Air Quality Management District, 2525 Dominic Drive, Suite J, Chico, CA 95928-7184.

Calaveras County Air Pollution Control District, 891 Mountain Ranch Road, San Andreas, CA 95249-9709.

Colusa County Air Pollution Control District, 100 Sunrise Blvd. Suite F, Colusa, CA 95932-3246.

El Dorado County Air Pollution Control District, 2850 Fairlane Court, Building C, Placerville, CA 95667-4100.

Feather River Air Quality Management District, 938-14th Street, Marysville, CA 95901-4149.

Glenn County Air Pollution Control District, 720 North Colusa Street, Willows, CA 95988-0351.

Great Basin Unified Air Pollution Control District, 157 Short Street, Suite 6, Bishop, CA 93514.

Imperial County Air Pollution Control District, 150 South Ninth Street, El Centro, CA 92243-2801.

Kern County (Southeast Desert) Air Pollution Control District, 2700 M. Street, Suite 302, Bakersfield, CA 93301-2370.

Lake County Air Quality Management District, 883 Lakeport Blvd., Lakeport, CA 95453-5405.

Lassen County Air Pollution Control District, 175 Russell Avenue, Susanville, CA 96130-4215.

Mariposa County Air Pollution Control District, 5110 Bullion Street, Mariposa, CA 95338.

Mendocino County Air Quality Management District, 306 E. Gobbi Street, Ukiah, CA 95482.

Modoc County Air Pollution Control District, 202 W. Fourth Street, Alturas, CA 96101.

Mojave Desert Air Quality Management District, 14306 Park Avenue, Victorville, CA 92392-2310.

Monterey Bay Unified Air Pollution Control District, 24580 Silver Cloud Ct., Monterey, CA 93940-6536.

North Coast Unified Air Quality Management District, 2300 Myrtle Avenue, Eureka, CA 95501-3327.

Northern Sierra Air Quality Management District, 200 Litton Drive, Suite 320, Grass Valley, CA 95945-2509.

Northern Sonoma County Air Pollution Control District, 150 Matheson Street, Healdsburg, CA 95448-4908.

Placer County Air Pollution Control District, 11464 B Avenue, Auburn, CA 95603.

San Diego County Air Pollution Control District, 9150 Chesapeake Drive, San Diego, CA 92123-1096.

San Joaquin Valley Unified Air Pollution Control District, 1990 East Gettysburg, Fresno, CA 93726.

San Luis Obispo County Air Pollution Control District, 3433 Roberto Court, San Luis Obispo, CA 93401-7126.

Santa Barbara County Air Pollution Control District, 26 Castilian Drive, B-23, Goleta, CA 93117.

Shasta County Air Quality Management District, 1855 Placer Street, Suite 101, Redding, CA 96001-1759.

Siskiyou County Air Pollution Control District, 525 South Foothill Drive, Yreka, CA 96097-3036.

South Coast Air Quality Management District, 21865 E. Copley Drive, Diamond Bar, CA 91765.

Tehama County Air Pollution Control District, 1750 Walnut Street, Red Bluff, CA 96080.

Tuolumne County Air Pollution Control District, 22365 Airport, Columbia, CA 95310.

Ventura County Air Pollution Control District, 669 County Square Drive, Ventura, CA 93003.

Yolo-Solano Air Quality Management District, 1947 Galileo Court, Suite 103, Davis, CA 95616.

Throughout this document wherever “we,” “us,” or “our” are used, we mean EPA.

Table of Contents

I. Proposed action.

II. Public comments and EPA responses.

III. EPA action.

IV. Administrative Requirements.

I. Proposed Action

On September 13, 2001 (66 FR 47603), EPA proposed to delete various rules from the California SIP, after determining that they had been approved into the SIP in error. Most of these rules fall into one of the following categories:

A. Various local fee provisions that are not economic incentive programs and are not designed to replace or relax a SIP emission limit. While it is appropriate for local agencies to implement fee provisions, for example, to recover costs for issuing permits, it is generally not appropriate to make local fee collection federally enforceable.

B. Various provisions describing local agency investigative or enforcement authority such as some rules titled enforcement, authority to inspect, authority to arrest, violation notices, and orders for abatement. States may need to adopt such rules to demonstrate adequate enforcement authority under section 110(a)(2) of the Act, but they should not be approved into the applicable SIP to avoid potential conflict with EPA's independent authorities provided in sections 113, 114, and elsewhere.

C. Local adoption of federal NSPS requirements either by reference or by adopting text identical or modified from the requirements found in 40 CFR Part 60. Since EPA has independent authority to implement 40 CFR Part 60, it is not appropriate to make parallel local authorities federally enforceable by approving them into the applicable SIP.

D. Local adoption of NESHAP requirements found in 40 CFR 61 as similarly discussed regarding NSPS.

A complete listing of each rule being deleted can be found in the proposed rule cited above.

II. Public Comments and EPA Responses

EPA's proposed action provided a 30-day public comment period. During this period, we received two public comment letters: a letter dated October 9, 2001 from Lawrence D. Odle, air pollution control officer of Butte County Air Quality Management District (BCAQMD), and a letter dated September 24, 2001 from Robert L. Reynolds, air pollution control officer of Lake County Air Quality Management District (LCAQMD). The commenter from BCAQMD expresses support for the proposed action. The commenter from LCAQMD requests that LCAQMD rules proposed for deletion from the California SIP be retained on the grounds that administration of LCAQMD's air pollution control program relies on these rules, which relate to investigative and enforcement authorities, penalties, and fees.

EPA agrees that these rules are important for local administration of LCAQMD's program. However, removal of these rules from the SIP does not affect the authority LCAQMD has under State law to implement its program or enforce its rules. As explained above, provisions describing local agency investigative or enforcement authorities should not be approved into the SIP to avoid potential conflict with EPA's independent authorities provided in sections 113, 114, and elsewhere in the Act. Also, fee provisions that are not economic incentive programs and are not designed to replace or relax a SIP emission limit should not be approved into the SIP since doing so provides the basis for federal enforcement, i.e., by EPA or a citizen, which is inappropriate for local fee collection provisions. While, for the reasons stated, these types of provisions should not be approved into the SIP, some were erroneously approved into the California SIP, and the purpose of this action is to remove them.

The commenter also requests that certain LCAQMD rules be updated in the SIP to reflect the most recent version of these rules. EPA cannot take action on revisions to these rules because they have not been submitted as official revisions to the California SIP by the California Air Resources Board, but more importantly, for the reasons discussed above, these rules, whether or not they are the most recent versions, are not the types of rules that are appropriate for approval into a SIP.

III. EPA Action

No comments were submitted that change our assessment that the rules listed in the proposed rule are appropriate for deletion from the SIP. Therefore, as authorized in section 110(k)(6) of the Act, EPA is deleting all these rules from the California SIP.

In this action, EPA is also reinserting a paragraph listing EPA-approved rules of the California SIP that were inadvertently deleted from Title 40 of the Code of Federal Regulations, part 52, § 52.220 in other actions. On November 10, 1982, at 47 FR 50864, EPA published a final rulemaking action approving changes to rules of sixteen air pollution districts submitted by the California Air Resources Board as revisions to the California SIP. This action inadvertently deleted paragraph (B) from 40 CFR 52.220(c)(89)(iii). The rules listed in paragraph (B) of 52.220(c)(89)(iii) had previously been incorporated into the California SIP on April 12, 1982, at 47 FR 15585, and were not among the rules that were the subject of the action taken by EPA on November 10, 1982. This action corrects this inadvertent deletion by reinserting paragraph (B) to 40 CFR 52.220(c)(89)(iii).

Section 553 of the Administrative Procedure Act, 5 U.S.C 553(b)(B), provides that, when an agency for good cause finds that notice and public procedures are impracticable, unnecessary or contrary to the public interest, the agency may issue a rule without providing notice and an opportunity for public comment. EPA has determined that there is good cause for making (the portion of) today's rule (that relates to technical corrections to the CFR) final without prior proposal and opportunity for comment because EPA is correcting inadvertent deletions of rules duly approved into a state implementation plan. The affected regulations were codified at 40 CFR part 52, subpart F, § 52.220(c)(89)(iii)(B) prior to their inadvertent deletion, and were previously subject to notice and comment prior to EPA approval. Thus, notice and public procedures are unnecessary. EPA finds that this constitutes good cause under 5 U.S.C. 553(b)(B).

EPA is also correcting the letter designation of a paragraph in Title 40 of the Code of Federal Regulations, part 52, section 52.220. On June 23, 1982, at 47 FR 27068, EPA added a second paragraph (B) to 40 CFR 52.220 (c)(51)(xiv). However, a paragraph (B) citing different local rules had already been added to 40 CFR 52.220 (c)(51)(xiv) on May 27, 1982, at 47 FR 23159. Today's action redesignates the material in the second paragraph (B) published on June 23, 1982 to paragraph (C). For the same reasons as provided above for the inadvertent deletion of SIP rules, EPA has determined that there is good cause for making this technical correction to the CFR final without prior proposal and opportunity for comment.

Lastly, our proposed rule published on September 13, 2001 indicated that EPA was proposing to delete Fresno County Air Pollution Control District (APCD) rule 111 (Arrests and Notice to Appear) from the California SIP. The State of California submitted a number of local rules, including Fresno County APCD rule 111, to EPA on June 4, 1986 for incorporation into the California SIP. On April 10, 1989, at 54 FR 14224, EPA approved Fresno County APCD rule 111 into the California SIP through a direct final rulemaking. This approval was subsequently withdrawn on June 23, 1989, at 54 FR 26373, in response to receipt of adverse comment on our direct final approval. On June 22, 1989, at 54 FR 262211, in anticipation of our withdrawal notice of June 23, 1989, we proposed to approve Fresno County APCD rule 111 into the California SIP, but the approval was never finalized. Therefore, Fresno County APCD rule 111 is not in the California SIP and is no longer a part of this action.

IV. Administrative Requirements

Under Executive Order 12866 (58 FR 51735, October 4, 1993), this action is not a “significant regulatory action” and therefore is not subject to review by the Office of Management and Budget. For this reason, this action is also not subject to Executive Order 32111, “Actions Concerning Regulations That Significantly Affect Energy Supply, Distribution, or Use” (66 FR 28355, May 22, 2001). This action imposes no additional requirements beyond those imposed by state law. Accordingly, the Administrator certifies that this rule will not have a significant economic impact on a substantial number of small entities under the Regulatory Flexibility Act (5 U.S.C. 601 et seq.). Because this rule does not impose any additional enforceable duty beyond that required by state law, it does not contain any unfunded mandate or significantly or uniquely affect small governments, as described in the Unfunded Mandates Reform Act of 1995 (Pub. L. 104-4).

This rule also does not have tribal implications because it will not have a substantial direct effect on one or more Indian tribes, on the relationship between the Federal Government and Indian tribes, or on the distribution of power and responsibilities between the Federal Government and Indian tribes, as specified by Executive Order 13175 (65 FR 67249, November 9, 2000), nor will it have substantial direct effects on the States, on the relationship between the national government and the States, or on the distribution of power and responsibilities among the various levels of government, as specified in Executive Order 13132 (64 FR 43255, August 10, 1999), because it does not alter the relationship or the distribution of power and responsibilities established in the Clean Air Act. This rule also is not subject to Executive Order 13045, “Protection of Children from Environmental Health Risks and Safety Risks” (62 FR 19885, April 23, 1997), because it is not economically significant.

In this action, EPA is not developing or adopting a technical standard. Thus, the requirements of section 12(d) of the National Technology Transfer and Advancement Act of 1995 (15 U.S.C. 272 note) do not apply. This rule does not impose an information collection burden under the provisions of the Paperwork Reduction Act of 1995 (44 U.S.C. 3501 et seq.).

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the Clean Air Act, petitions for judicial review of this action must be filed in the United States Court of Appeals for the appropriate circuit by March 19, 2002. Filing a petition for reconsideration by the Administrator of this final rule does not affect the finality of this rule for the purposes of judicial review nor does it extend the time within which a petition for judicial review may be filed, and shall not postpone the effectiveness of such rule or action. This action may not be challenged later in proceedings to enforce its requirements. (See section 307(b)(2).)

List of Subjects in 40 CFR Part 52

Environmental protection, Air pollution control, Reporting and recordkeeping requirements.

Dated: December 12, 2001.
Sally Seymour,
Acting Regional Administrator, Region IX.

Part 52, chapter I, title 40 of the Code of Federal Regulations is amended as follows:

PART 52—[AMENDED]

1. The authority citation for part 52 continues to read as follows:

Authority: 42 U.S.C. 7401 et seq.

Subpart F—California

2. Section 52.220 is amended:

a. By adding paragraphs: (b)(1)(ii), (b)(2)(ii), (b)(4)(ii), (b)(6) through (b)(11), (c)(6)(ii)(B), (c)(6)(iii)(B), (c)(6)(iv)(B), (c)(6)(v)(B), (c)(6)(vi)(B), (c)(6)(vii)(B), (c)(6)(x)(B), (c)(6)(xi)(B), (c)(6)(xii)(B), (c)(6)(xiii)(B), (c)(6)(xiv)(B), (c)(6)(xvi)(B), (c)(6)(xvii)(B), (c)(6)(xix)(B), (c)(6)(xx) to (c)(6)(xxii), (c)(21)(ix)(D), (c)(21)(xviii)(B), (c)(24)(vi)(D), (c)(25)(vii)(B), (c)(26)(ii)(D), (c)(26)(iv)(D) and (E), (c)(26)(xvii)(D), (c)(27)(vii)(D), (c)(27)(viii)(D), (c)(28)(viii)(B), (c)(29)(vi)(C), (c)(30)(v)(B), (c)(30)(vi)(B), (c)(31)(i)(G), (c)(31)(iii)(B), (c)(31)(vi)(E), (c)(31)(xviii)(F), (c)(32)(ii)(C), (c)(32)(iii)(F), (c)(35)(iii)(D), (c)(35)(v)(C), (c)(35)(xii)(H), (c)(35)(xiii)(D), (c)(35)(xv)(F), (c)(37)(iv)(E), (c)(37)(v)(D), (c)(39)(iii)(G), (c)(39)(iv)(G), (c)(39)(vii)(D), (c)(39)(x)(D), (c)(41)(ix)(D), (c)(41)(x)(D) through (G), (c)(42)(i)(F), (c)(42)(iii)(D), (c)(42)(viii)(B), (c)(42)(x)(C), (c)(42)(xiv)(D), (c)(44)(iv)(D), (c)(51)(xi)(B), (c)(51)(xiii)(C), (c)(51)(xiv)(D), (c)(51)(xviii)(B), (c)(51)(xx)(C), (c)(52)(ii)(C), (c)(52)(iv)(F), (c)(52)(xi)(C), (c)(52)(xv)(D), (c)(52)(xvi)(C), (c)(54)(vi)(B), (c)(70)(iv)(B), (c)(85)(vi)(C), (c)(85)(vii)(B), (c)(85)(x)(B), (c)(89)(iii)(B) and (C), (c)(92)(iv)(B), (c)(93)(iii)(C), (c)(93)(iv)(D), (c)(96)(iii)(C), (c)(98)(i)(E), (c)(101)(ii)(G), (c)(103)(xi)(B), (c)(103)(xiii)(C), (c)(103)(xiv)(C), (c)(103)(xvii)(C), (c)(119)(i)(D), (c)(124)(ii)(B), (c)(125)(iv)(C), (c)(125)(v)(C), (c)(126)(ii)(B), (c)(127)(v)(C), (c)(127)(vii)(F) and (G), (c)(137)(i)(C), (c)(137)(ii)(E), (c)(138)(i)(C), (c)(138)(ii)(E), (c)(138)(iii)(B), (c)(138)(iv)(B), (c)(138)(v)(E), (c)(140)(i)(D), (c)(140)(iii)(C), (c)(148)(ii)(C), (c)(153)(ii)(D), (c)(154)(i)(D), (c)(155)(v)(C), (c)(156)(ii)(B), (c)(158)(i)(C), (c)(159)(iii)(D), (c)(164)(i)(A)(2), (c)(164)(i)(B)(3), (c)(168)(i)(A)(5), (c)(168)(i)(C)(3), (c)(173)(i)(B)(2), (c)(173)(i)(D)(2), (c)(177)(i)(D)(3), (c)(179)(i)(B)(2), (c)(179)(i)(E)(4), (c)(246)(i)(A)(3); and

b. By redesignating the second paragraph (c)(51)(xiv)(B) as (c)(51)(xiv)(C).

The additions read as follows:

§ 52.220 Identification of plan.

* * * * *

(b) * * *

(1) * * *

(ii) Previously approved on May 31, 1972 in paragraph (b) of this section and now deleted without replacement, Part X, Paragraph 3.

* * * * *

(2) * * *

(ii) Previously approved on May 31, 1972 in paragraph (b) of this section and now deleted without replacement, Rules 40 and 42.

* * * * *

(4) * * *

(ii) Previously approved on May 31, 1972 in paragraph (b) of this section and now deleted without replacement, Regulation 3, Rules 40, 42, 43, and 44.

* * * * *

(6) Lassen County APCD.

(i) Previously approved on May 31, 1972 in paragraph (b) of this section and now deleted without replacement, Rules 1.4, 3.2, 3.3 (Schedules 1-6), 3.4, and 3.5.

(7) Nevada County APCD.

(i) Previously approved on May 31, 1972 in paragraph (b) of this section and now deleted without replacement, Rule 41.

(8) Orange County APCD.

(i) Previously approved on May 31, 1972 in paragraph (b) of this section and now deleted without replacement, Rule 120.

(9) Sierra County APCD.

(i) Previously approved on May 31, 1972 in paragraph (b) of this section and now deleted without replacement, Rules 46 and 50.

(10) Siskiyou County APCD.

(i) Previously approved on May 31, 1972 in paragraph (b) of this section and now deleted without replacement, Rules 3.1, 3.2, and 3.3.

(11) Yolo-Solano AQMD.

(i) Previously approved on May 31, 1972 in paragraph (b) of this section and now deleted without replacement, Rules 1.7 and 2.18.

(c) * * *

(6) * * *

(ii) * * *

(B) Previously approved on September 22, 1972 in paragraph (c) of this section and now deleted without replacement, Rule 109.

(iii) * * *

(B) Previously approved on September 22, 1972 in paragraph (c) of this section and now deleted without replacement, Rules 1.4, 2.13, 6.11 and 6.12.

(iv) * * *

(B) Previously approved on September 22, 1972 in paragraph (c) of this section and now deleted without replacement, Rules 104, 105, 107, 109, 303, and 304.

(v) * * *

(B) Previously approved on September 22, 1972 in paragraph (c) of this section and now deleted without replacement, Rules 151 and 153.

(vi) * * *

(B) Previously approved on September 22, 1972 in paragraph (c) of this section and now deleted without replacement, Rules 107, 109, 303, and 304.

(vii) * * *

(B) Previously approved on September 22, 1972 in paragraph (c) of this section and now deleted without replacement, Rule 109.

* * * * *

(x) * * *

(B) Previously approved on September 22, 1972 in paragraph (c) of this section and now deleted without replacement, Rules 107, 301 (Paragraphs c to g, i, and j), 303, and 304.

(xi) * * *

(B) Previously approved on September 22, 1972 in paragraph (c) of this section and now deleted without replacement, Rule 1.4.

(xii) * * *

(B) Previously approved on September 22, 1972 in paragraph (c) of this section and now deleted without replacement, Rules 107 and 109.

(xiii) * * *

(B) Previously approved on September 22, 1972 in paragraph (c) of this section and now deleted without replacement, Rule 107.

(xiv) * * *

(B) Previously approved on September 22, 1972 in paragraph (c) of this section and now deleted without replacement, Rules 107 and 109.

* * * * *

(xvi) * * *

(B) Previously approved on September 22, 1972 in paragraph (c) of this section and now deleted without replacement, Rules 42 and 100.

(xvii) * * *

(B) Previously approved on September 22, 1972 in paragraph (c) of this section and now deleted without replacement, Rules 43, 44, and Rule 120.

* * * * *

(xix) * * *

(B) Previously approved on September 22, 1972 in paragraph (c) of this section and now deleted without replacement, Rules 43 and 44 (Mojave Desert AQMD only).

(xx) Mariposa County APCD.

(A) Previously approved on September 22, 1972 in paragraph (c) of this section and now deleted without replacement, Rule 17.

(xxi) Plumas County APCD.

(A) Previously approved on September 22, 1972 in paragraph (c) of this section and now deleted without replacement, Rules 3, 4, and 40.

(xxii) Sutter County APCD.

(A) Previously approved on September 22, 1972 in paragraph (c) of this section and now deleted without replacement, Rule 2.20.

* * * * *

(21) * * *

(ix) * * *

(D) Previously approved on August 22, 1977 in paragraph (c)(21)(ix)(A) of this section and now deleted without replacement, Rule 107.

* * * * *

(xviii) * * *

(B) Previously approved on September 8, 1978 in paragraph (c)(21)(xviii)(A) of this section and now deleted without replacement, Rule 45.

* * * * *

(24) * * *

(vi) * * *

(D) Previously approved on August 22, 1977 in paragraph (c)(24)(vi)(A) of this section and now deleted without replacement, Rule 3.7.

* * * * *

(25) * * *

(vii) * * *

(B) Previously approved on October 27, 1977 in paragraph (c)(25)(vii)(A) of this section and now deleted without replacement, Rules 302 and 303.

* * * * *

(26) * * *

(ii) * * *

(D) Previously approved on May 11, 1977 in paragraph (c)(26)(ii)(B) of this section and now deleted without replacement, Regulation 7.

* * * * *

(iv) * * *

(D) Previously approved on May 11, 1977 in paragraph (c)(26)(iv)(A) of this section and now deleted without replacement, Rule 155.

(E) Previously approved on August 22, 1977 in paragraph (c)(26)(iv)(A) of this section and now deleted without replacement, Rule 3.1.

* * * * *

(xvii) * * *

(D) Previously approved on June 14, 1978 in paragraph (c)(26)(xvii)(A) of this section and now deleted without replacement, Rule 105.

* * * * *

(27) * * *

(vii) * * *

(D) Previously approved on June 14, 1978 in paragraph (c)(27)(vii)(A) of this section and now deleted without replacement, Rules 105, 601, and 602. (viii) * * *

(D) Previously approved on June 14, 1978 in paragraph (c)(27)(viii)(A) of this section and now deleted without replacement, Rules 323, 601, and 602.

* * * * *

(28) * * *

(viii) * * *

(B) Previously approved on August 22, 1977 in paragraph (c)(28)(viii)(A) of this section and now deleted without replacement, Rules 422 and 423.

* * * * *

(29) * * *

(vi) * * *

(C) Previously approved on August 15, 1977 in paragraph (c)(29)(vi)(A) of this section and now deleted without replacement, Rule 72 (72-72.8).

* * * * *

(30) * * *

(v) * * *

(B) Previously approved on August 22, 1977 in paragraph (c)(30)(v)(A) of this section and now deleted without replacement, Rules 422 and 423.

(vi) * * *

(B) Previously approved on August 22, 1977 in paragraph (c)(30)(vi)(A) of this section and now deleted without replacement, Rules 422 and 423.

* * * * *

(31) * * *

(i) * * *

(G) Previously approved on June 6, 1977 in paragraph (c)(31)(i)(B) of this section and now deleted without replacement, Rules 105, 302, and 303.

* * * * *

(iii) * * *

(B) Previously approved on May 11, 1977 in paragraph (c)(31)(iii)(A) of this section and now deleted without replacement, Rule 5.

* * * * *

(vi) * * *

(E) Previously approved on June 14, 1978 in paragraph (c)(31)(vi)(B) of this section and now deleted without replacement, Rule 105.

* * * * *

(xviii) * * *

(F) Previously approved on June 14, 1978 in paragraph (c)(31)(xvii)(B) of this section and now deleted without replacement, Rule 105.

* * * * *

(32) * * *

(ii) * * *

(C) Previously approved on August 22, 1977 in paragraph (c)(32)(ii)(A) of this section and now deleted without replacement, Rules 104, 105, 112, 422, and 423.

(iii) * * *

(F) Previously approved on June 14, 1978 in paragraph (c)(32)(iii)(C) of this section and now deleted without replacement, Rule 302.

* * * * *

(35) * * *

(iii) * * *

(D) Previously approved on August 15, 1977 in paragraph (c)(35)(iii)(B) of this section and now deleted without replacement, Rules 72 (72.9-72.10) and 73.

* * * * *

(v) * * *

(C) Previously approved on October 4, 1977 in paragraph (c)(35)(v)(A) of this section and now deleted without replacement, Rules 104, 105, and 112.

* * * * *

(xii) * * *

(H) Previously approved on August 4, 1978 in paragraph (c)(35)(xii)(A) of this section and now deleted without replacement, Rules 110 and 111.

(xiii) * * *

(D) Previously approved on March 22, 1978 in paragraph (c)(35)(xiii)(A) of this section and now deleted without replacement, Rule 104.

* * * * *

(xv) * * *

(F) Previously approved on November 7, 1978 in paragraph (c)(35)(xv)(C) of this section and now deleted without replacement, Rules 340.

* * * * *

(37) * * *

(iv) * * *

(E) Previously approved on August 4, 1978 in paragraph (c)(37)(iv)(B) of this section and now deleted without replacement, Rules 531, 901, and 1500.

(v) * * *

(D) Previously approved on December 6, 1979 in paragraph (c)(37)(v)(B) of this section and now deleted without replacement, Rules 216, 323, and 324.

* * * * *

(39) * * *

(iii) * * *

(G) Previously approved on September 8, 1978 in paragraph (c)(39)(iii)(C) of this section and now deleted without replacement, Rules 42 and 105.

(iv) * * *

(G) Previously approved on September 8, 1978 in paragraph (c)(39)(iv)(C) of this section and now deleted without replacement, Rules 42 and 301.

* * * * *

(vii) * * *

(D) Previously approved on August 16, 1978 in paragraph (c)(39)(vii)(A) of this section and now deleted without replacement, Rules 216 and 402.

* * * * *

(x) * * *

(D) Previously approved on September 14, 1978 in paragraph (c)(39)(x)(A) of this section and now deleted without replacement, Rule 402.

* * * * *

(41) * * *

(ix) * * *

(D) Previously approved on November 7, 1978 in paragraph (c)(41)(ix)(A) of this section and now deleted without replacement, Rules 216, 324, 402, 602, 603, and 604.

(x) * * *

(D) Previously approved on November 15, 1978 in paragraph (c)(41)(x)(A) of this section and now deleted without replacement, Rule 402.

(E) Previously approved on November 15, 1978 in paragraph (c)(41)(x)(A) of this section and now deleted without replacement, Rules 801 to 804 (Lake Tahoe Air Basin).

(F) Previously approved on November 15, 1978 in paragraph (c)(41)(x)(A) of this section and now deleted without replacement, Rules 801, 802, 803 (paragraphs B and C), and 804 (Mountain Counties Air Basin).

(G) Previously approved on November 15, 1978 in paragraph (c)(41)(x)(A) of this section and now deleted without replacement, Rules 603, 604, 605, and 801 to 804 (Sacramento Valley Air Basin).

* * * * *

(42) * * *

(i) * * *

(F) Previously approved on August 11, 1978 in paragraph (c)(42)(i)(A) of this section and now deleted without replacement, Rules 104, 106, and 303.

* * * * *

(iii) * * *

(D) Previously approved on August 4, 1978 in paragraph (c)(42)(iii)(A) of this section and now deleted without replacement, Rules 104 and 110.

* * * * *

(viii) * * *

(B) Previously approved on September 14, 1978 in paragraph (c)(42)(viii)(A) of this section and now deleted without replacement, Rules 152 and 154.

* * * * *

(x) * * *

(C) Previously approved on November 6, 1978 in paragraph (c)(42)(x)(A) of this section and now deleted without replacement, Rules 216, 324, and 402.

* * * * *

(xiv) * * *

(D) Previously approved on December 21, 1978 in paragraph (c)(42)(xiv)(A) of this section and now deleted without replacement, Rule 105 (Mojave Desert AQMD only).

* * * * *

(44) * * *

(iv) * * *

(D) Previously approved on January 29, 1979 in paragraph (c)(44)(iv)(A) of this section and now deleted without replacement, Rule 1.4.

* * * * *

(51) * * *

(xi) * * *

(B) Previously approved on January 27, 1981 in paragraph (c)(51)(xi)(A) of this section and now deleted without replacement, Rule 660.

* * * * *

(xiii) * * *

(C) Previously approved on May 18, 1981 in paragraph (c)(51)(xiii)(A) of this section and now deleted without replacement, Rule 402.

(xiv) * * *

(D) Previously approved on May 18, 1981 in paragraph (c)(51)(xiv)(A) of this section and now deleted without replacement, Rules 801 to 804.

* * * * *

(xviii) * * *

(B) Previously approved on January 25, 1982 in paragraph (c)(51)(xviii)(A) of this section and now deleted without replacement, Rule 618.

* * * * *

(xx) * * *

(C) Previously approved on June 18, 1982 in paragraph (c)(51)(xx)(A) of this section and now deleted without replacement, Rule 9.

* * * * *

(52) * * *

(ii) * * *

(C) Previously approved on January 27, 1981 in paragraph (c)(52)(ii)(B) of this section and now deleted without replacement, Rules 304 and 706.

* * * * *

(iv) * * *

(F) Previously approved on December 9, 1981 in paragraph (c)(52)(iv)(B) of this section and now deleted without replacement, Rule 301.

* * * * *

(xi) * * *

(C) Previously approved on May 18, 1981 in paragraph (c)(52)(xi)(A) of this section and now deleted without replacement, Rules 103, 402, and 601 to 604.

* * * * *

(xv) * * *

(D) Previously approved on December 9, 1981 in paragraph (c)(52)(xv)(B) of this section and now deleted without replacement, Rule 302.

(xvi) * * *

(C) Previously approved on January 26, 1982 in paragraph (c)(52)(xvi)(A) of this section and now deleted without replacement, Rules 7.0, 7.1, and 8.1.

* * * * *

(54) * * *

(vi) * * *

(B) Previously approved on January 26, 1982 in paragraph (c)(54)(vi)(A) of this section and now deleted without replacement, Rule 1.4.

* * * * *

(70) * * *

(iv) * * *

(B) Previously approved on May 27, 1982 in paragraph (c)(70)(iv)(A) of this section and now deleted without replacement, Rules 601 to 613.

* * * * *

(85) * * *

(vi) * * *

(C) Previously approved on April 12, 1982 in paragraph (c)(85)(vi)(A) of this section and now deleted without replacement, Rules 1.3 and 2.9.

(vii) * * *

(B) Previously approved on June 18, 1982 in paragraph (c)(85)(vii)(A) of this section and now deleted without replacement, Rule 210.

* * * * *

(x) * * *

(B) Previously approved on July 6, 1982 in paragraph (c)(85)(x)(A) of this section and now deleted without replacement, Rule 110.

* * * * *

(89) * * *

(iii) * * *

(B) New or amended rules 1.3, 3.0-3.7, 3.9, 3.10, 3.13, 4.0-4.5, 4.7 to 4.10, 4.12, 5.4, 6.0, 8.0, 8.2, 9.0-9.5, 9.7, and 9.8.

(C) Previously approved on April 12, 1982 in paragraph (c)(89)(iii)(B) of this section and now deleted without replacement, Rules 8.0, 8.2 and 9.0 to 9.4.

* * * * *

(92) * * *

(iv) * * *

(B) Previously approved on April 13, 1982 in paragraph (c)(92)(iv)(A) of this section and now deleted without replacement, Rule 300.

* * * * *

(93) * * *

(iii) * * *

(C) Previously approved on June 18, 1982 in paragraph (c)(93)(iii)(B) of this section and now deleted without replacement, Rule 509.

(iv) * * *

(D) Previously approved on June 18, 1982 in paragraph (c)(93)(iv)(B) of this section and now deleted without replacement, Rule 509.

* * * * *

(96) * * *

(iii) * * *

(C) Previously approved on January 26, 1982 in paragraph (c)(96)(iii)(A) of this section and now deleted without replacement, Rule 3.

* * * * *

(98) * * *

(i) * * *

(E) Previously approved on April 12, 1982 in paragraph (c)(98)(i)(B) of this section and now deleted without replacement, Rules 8.0 to 8.2 and 9.0 and 9.4.

* * * * *

(101) * * *

(ii) * * *

(G) Previously approved on July 6, 1982 in paragraph (c)(101)(ii)(B) of this section and now deleted without replacement, Rules 301 and 302 (including Southeast Desert).

* * * * *

(103) * * *

(xi) * * *

(B) Previously approved on April 13, 1982 in paragraph (c)(103)(xi)(A) of this section and now deleted without replacement, Rule 301.

* * * * *

(xiii) * * *

(C) Previously approved on May 27, 1982 in paragraph (c)(103)(xiii)(A) of this section and now deleted without replacement, Rules 318 and 319.

(xiv) * * *

(C) Previously approved on May 27, 1982 in paragraph (c)(103)(xiv)(A) of this section and now deleted without replacement, Rules 301, 302, 306, and 307.

* * * * *

(xvii) * * *

(C) Previously approved on May 27, 1982 in paragraph (c)(103)(xvii)(A) of this section and now deleted without replacement, Rule 509.

* * * * *

(119) * * *

(i) * * *

(D) Previously approved on May 27, 1982 in paragraph (c)(119)(i)(A) of this section and now deleted without replacement, Rule 509.

* * * * *

(124) * * *

(ii) * * *

(B) Previously approved on November 10, 1982 in paragraph (c)(124)(ii)(A) of this section and now deleted without replacement, Rules 660.1, 660.2, and 660.3.

* * * * *

(125) * * *

(iv) * * *

(C) Previously approved on November 10, 1982 in paragraph (c)(125)(iv)(A) of this section and now deleted without replacement, Rule 2:11.

(v) * * *

(C) Previously approved on November 10, 1982 in paragraph (c)(125)(v)(A) of this section and now deleted without replacement, Rule 104.

* * * * *

(126) * * *

(ii) * * *

(B) Previously approved on June 1, 1983 in paragraph (c)(126)(ii)(A) of this section and now deleted without replacement, Rule 210D.

* * * * *

(127) * * *

(v) * * *

(C) Previously approved on August 9, 1985 in paragraph (c)(127)(v)(B) of this section and now deleted without replacement, Rule 301.

* * * * *

(vii) * * *

(F) Previously approved on November 18, 1983 in paragraph (c)(127)(vii)(A) of this section and now deleted without replacement for implementation in the Antelope Valley Air Pollution Control District and the South Coast Air Quality Management District, Rule 302.

(G) Previously approved on October 19, 1984 in paragraph (c)(127)(vii)(C) of this section and now deleted without replacement for implementation in the Antelope Valley Air Pollution Control District and the South Coast Air Quality Management District, Rule 304.

* * * * *

(137) * * *

(i) * * *

(C) Previously approved on February 1, 1984 in paragraph (c)(137)(i)(A) of this section and now deleted without replacement, Rules 301.1 and 302 (including Southeast Desert).

(ii) * * *

(E) Previously approved on February 1, 1984 in paragraph (c)(137)(ii)(A) of this section and now deleted without replacement, Rules 104, 113, and 301 (paragraphs a, b, and h).

* * * * *

(138) * * *

(i) * * *

(C) Previously approved on November 18, 1983 in paragraph (c)(138)(i)(A) of this section and now deleted without replacement, Rules 4-2, 4-11, and 5-3.

(ii) * * *

(E) Previously approved on November 18, 1983 in paragraph (c)(138)(ii)(A) of this section and now deleted without replacement, Rules 609 to 612 (Mountain Counties Air Basin).

(iii) * * *

(B) Previously approved on November 18, 1983 in paragraph (c)(138)(iii)(A) of this section and now deleted without replacement, Rule 301.

(iv) * * *

(B) Previously approved on November 18, 1983 in paragraph (c)(138)(iv)(A) of this section and now deleted without replacement, Rules 900 and 902.

(v) * * *

(E) Previously approved on November 18, 1983 in paragraph (c)(138)(v)(A) of this section and now deleted without replacement, Rules 105, 108, 111, and 301 to 304.

* * * * *

(140) * * *

(i) * * *

(D) Previously approved on May 3, 1984 in paragraph (c)(140)(i)(A) of this section and now deleted without replacement, Regulation 3: Rules 3-100 through 3-103, 3-200 through 3-211, 3-300, 3-302 through 3-313, and 3-400 through 3-409.

* * * * *

(iii) * * *

(C) Previously approved on May 3, 1984 in paragraph (c)(140)(iii)(A) of this section and now deleted without replacement, Rule 109.

* * * * *

(148) * * *

(ii) * * *

(C) Previously approved on May 3, 1984 in paragraph (c)(148)(ii)(A) of this section and now deleted without replacement, Rule 226.

* * * * *

(153) * * *

(ii) * * *

(D) Previously approved on December 5, 1984 in paragraph (c)(153)(ii)(A) of this section and now deleted without replacement, Rules 500 and 520.

* * * * *

(154) * * *

(i) * * *

(D) Previously approved on December 5, 1984 in paragraph (c)(154)(i)(A) of this section and now deleted without replacement, Rules 500, 520, and Regulation 2: Rule 502.1.

* * * * *

(155) * * *

(v) * * *

(C) Previously approved on January 29, 1985 in paragraph (c)(155)(v)(A) of this section and now deleted without replacement, Regulation 2: Rule 502.

* * * * *

(156) * * *

(ii) * * *

(B) Previously approved on January 29, 1985 in paragraph (c)(156)(ii)(A) of this section and now deleted without replacement, Rule 112.

* * * * *

(158) * * *

(i) * * *

(C) Previously approved on May 9, 1985 in paragraph (c)(158)(i)(A) of this section and now deleted without replacement, Rule 2-502.2.

* * * * *

(159) * * *

(iii) * * *

(D) Previously approved on July 13, 1987 in paragraph (c)(159)(iii)(A) of this section and now deleted without replacement, Rule 104.

* * * * *

(164) * * *

(i) * * *

(A) * * *

(2) Previously approved on April 17, 1987 in paragraph (c)(164)(i)(A)(1) of this section and now deleted without replacement, Rules 318, 319, and 509.

(B) * * *

(3) Previously approved on April 17, 1987 in paragraph (c)(164)(i)(B)(1) of this section and now deleted without replacement, Rules 500 and 520.

* * * * *

(168) * * *

(i) * * *

(A) * * *

(5) Previously approved on February 3, 1987 in paragraph (c)(168)(i)(A)(1) of this section and now deleted without replacement, Rules 701, 702, 703, and 902.

* * * * *

(C) * * *

(3) Previously approved on February 3, 1987 in paragraph (c)(168)(i)(C)(1) of this section and now deleted without replacement, Rule 803.

* * * * *

(173) * * *

(i) * * *

(B) * * *

(2) Previously approved on February 3, 1989 in paragraph (c)(173)(i)(B)(1) of this section and now deleted without replacement, Rules 105 and 108.

* * * * *

(D) * * *

(2) Previously approved on February 3, 1989 in paragraph (c)(173)(i)(D)(1) of this section and now deleted without replacement, Rule 110.

* * * * *

(177) * * *

(i) * * *

(D) * * *

(3) Previously approved on April 16, 1991 in paragraph (c)(177)(i)(D)(1) of this section and now deleted without replacement, Rule 112.

* * * * *

(179) * * *

(i) * * *

(B) * * *

(2) Previously approved on November 27, 1990 in paragraph (c)(179)(i)(B)(1) of this section and now deleted without replacement, Rule 105.

* * * * *

(E) * * *

(4) Previously approved on November 4, 1996 in paragraph (c)(179)(i)(E)(1) of this section and now deleted without replacement, Rule 1.4.

* * * * *

(246) * * *

(i) * * *

(A) * * *

(3) Previously approved on September 16, 1997 in paragraph (c)(246)(i)(A)(1) of this section and now deleted without replacement, Rule 223.

* * * * *

[FR Doc. 02-189 Filed 1-17-02; 8:45 am]

BILLING CODE 6560-50-P